ENVIRONMENTAL PROTECTION AGENCY

[EPA-HQ-OPP-2009-0879; FRL-9912-11]

Exposure Modeling Public Meeting; Notice of Public Meeting

AGENCY: Environmental Protection Agency (EPA).

ACTION: Notice.

SUMMARY: An Exposure Modeling Public Meeting will be held on October 28, 2014. This Notice announces the location and time for the meeting and sets forth the tentative agenda topics.

DATES: The meeting will be held on October 28, 2014, from 9:00 a.m. to 5:00 p.m. Requests to participate in the meeting must be received on or before July 7, 2014.

To request accommodation of a disability, please contact the person listed under FOR FURTHER INFORMATON CONTACT, preferably at least 10 days prior to the meeting, to give EPA as much time as possible to process your request.

ADDRESSES: The meeting will be held at the Environmental Protection Agency, Office of Pesticide Programs (OPP), One Potomac Yard (South Building), First Floor Conference Center (S-1200), 2777 S. Crystal Drive, Arlington, VA 22202.

FOR FURTHER INFORMATION CONTACT: Melanie Biscoe or Christopher Koper, Environmental Fate and Effects Division, Office of Pesticide Programs, Environmental Protection Agency, 1200 Pennsylvania Ave. NW., Washington, DC 20460-0001; telephone number: (703) 305-7106 and (703) 347-8065; fax number: (703) 347-8011; email address: biscoe.melanie@epa.gov and koper.christopher@epa.gov.

SUPPLEMENTARY INFORMATION:

I. General Information

A. Does this action apply to me?

You may be potentially affected by this action if you are required to conduct testing of chemical substances under the Toxic Substances Control Act (TSCA), the Federal Food, Drug, and Cosmetic Act (FFDCA), or the Federal Insecticide, Fungicide, and Rodenticide Act (FIFRA). Since other entities may also be interested, the Agency has not attempted to describe all the specific entities that may be affected by this action. The following list of North American Industrial Classification System (NAICS) codes is not intended to be exhaustive, but rather provides a guide to help readers determine whether this document applies to them. Potentially affected entities may include:

• Agriculture, Forestry, Fishing and Hunting NAICS code 11

• Utilities NAICS code 22

• Professional, Scientific and Technical NAICS code 54

B. How can I get copies of this document and other related information?

The docket for this action, identified by docket identification (ID) number EPA-HQ-OPP-2009-0879, is available at http://www.regulations.gov or at the Office of Pesticide Programs Regulatory Public Docket (OPP Docket) in the Environmental Protection Agency Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Background

On a biannual interval, an Exposure Modeling Public Meeting (EMPM) is held for presentation and discussion of current issues related to modeling pesticide fate, transport, and exposure for risk assessment in a regulatory context. Meeting dates and abstract requests are announced through the “empmlist” forum on the LYRIS list server at https://lists.epa.gov/read/all_forums/.

III. How can I request to participate in this meeting?

You may submit a request to participate in this meeting to the person listed under FOR FURTHER INFORMATION CONTACT. Do not submit any information in your request that is considered CBI. Requests to participate in the meeting, identified by docket ID number EPA-HQ-OPP-2009-0879, must be received on or before July 7, 2014.

IV. Tentative Topics for the Meeting

Spatial Aquatic Modeling (SAM)

Terrestrial Plant Exposure Modeling (Audrey III Model)

Surface Water Concentration Calculator (SWCC) Evaluation

Pesticide Root Zone Model—Ground Water (PRZM-GW) Updates

Unextracted Residues Guidance

EPA Suggestions for Ecotox Presentations

Endangered Species Exposure Modeling

Population Modeling

Pesticide Flooded Application Model (PFAM)

Bias Factors for Water Monitoring Data

Formation/Decline Kinetics for Degradates Formed in Parallel or in Sequence

Future Structure of the EMPM Meeting—The EMPM has focused predominantly on water models. Is there interest in discussing other models?

List of Subjects

Environmental protection, Exposure modeling, Public meeting.

Dated: June 11, 2014.
Donald J. Brady,
Director, Environmental Fate and Effects Division, Office of Pesticide Programs.

[FR Doc. 2014-14833 Filed 6-24-14; 8:45 am]

BILLING CODE 6560-50-P